FEDERAL COMMUNICATIONS COMMISSION

47 CFR Part 73

[DA 05-578; MB Docket No. 05-81; RM-11102]

Radio Broadcasting Services; Altheimer, AR and Little Rock, AR.

AGENCY: Federal Communications Commission.

ACTION: Proposed rule.

SUMMARY: This document requests comments on a petition for rulemaking filed by Charles Crawford, requesting the allotment of Channel 251C3 at Altheimer, Arkansas, as the community's first local aural transmission service. Petitioner's proposal also requires the reclassification of Station KURB(FM), Channel 253C, Little Rock, Arkansas 253C0 pursuant to the reclassification procedures adopted by the Commission. See Second Report and Order in MM Docket 98-93 (1998 Biennial Regulatory Review—Streamlining of Radio Technical Rules in Parts 73 and 74 of the Commission's Rules) 65 FR 79773 (2000). An Order to Show Cause was issued to Citadel Broadcasting Company, licensee of Station KURB(FM) (RM-11102). Channel 251C3 can be allotted at Altheimer, Arkansas, at Petitioner's requested site 20.4 kilometers (12.7 miles) southwest of the community at coordinates 34-09-00 NL and 91-56-00 WL

DATES: Comments must be filed on or before April 25, 2005, and reply comments on or before May 10, 2005. Any counterproposal filed in this proceeding need only protect Station KURB(FM), Little Rock, Arkansas as a Class C0 allotment.

ADDRESSES: Federal Communications Commission, 445 Twelfth Street, SW., Washington, DC 20554. In addition to filing comments with the FCC, interested parties should serve the petitioner, and Station KURB as follows: Charles Crawford, 553 Bordeaux Avenue, Dallas, Texas 75205 (Petitioner), Citadel Broadcasting Company, City Center West, 7201 W. Lake Mead Blvd., Suite 400, Las Vegas, Nevada 89128 (Licensee of Station KURB).

FOR FURTHER INFORMATION CONTACT: Victoria McCauley, Media Bureau, (202) 418-2180.

SUPPLEMENTARY INFORMATION: This is a synopsis of the Commission's Notice of Proposed Rule Making, MB Docket No. 05-81, adopted March 2, 2005, and released March 4, 2005. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Arkansas is amended by adding Altheimer, Channel 251C3, and by removing Channel 253C and adding Channel 253C0 at Little Rock.

Federal Communications Commission.
John A. Karousos,
Assistant Chief, Audio Division, Media Bureau.

[FR Doc. 05-5171 Filed 3-15-05; 8:45 am]

BILLING CODE 6712-01-P